DEPARTMENT OF LABOR

Employee Benefits Security Administration

Proposed Extension of Information Collection; Comment Request; HDCI 2 Survey of Group Health Plans

ACTION: Notice.

SUMMARY: The Department of Labor (the Department), in accordance with the Paperwork Reduction Act of 1995 (PRA) (44 U.S.C. 3506(c)(2)(A)), provides the general public and Federal agencies with an opportunity to comment on proposed and continuing collections of information. This program helps the Department assess the impact of its information collection requirements and minimize the reporting burden on the public and helps the public understand the Department's information collection requirements and provide the requested data in the desired format. Currently, the Employee Benefits Security Administration is soliciting comments on a proposed extension of an information collection entitled the Health Disclosure and Claims Issues Project Survey (HDCI 2 Survey). A copy of the information collection request (ICR) can be obtained by contacting the office listed below in the ADDRESSES section of this notice.

DATES: Written comments must be submitted on or before March 1, 2010.

ADDRESSES: Direct all written comments to G. Christopher Cosby, Office of Policy and Research, Employee Benefits Security Administration, U.S. Department of Labor, 200 Constitution Avenue, NW., Room N-5716, Washington, DC 20210. Telephone: (202) 693-8410; Fax: (202) 219-4745. These are not toll-free numbers. Comments may also be submitted electronically to the following Internet e-mail address: ebsa.opr@dol.gov.

SUPPLEMENTARY INFORMATION:

I. Background

In 1999, the Department conducted a pilot project under which approximately 200 group health plans were investigated for compliance with Part 7 of the Employee Retirement Income Security Act of 1974 (ERISA). In 2001, the Department initiated the Health Disclosure and Claims Issues: Fiscal Year 2001 Compliance Project, which sought to increase compliance through investigations and improve the Department's ability to provide effective compliance assistance by assessing more comprehensively the extent and nature of compliance with Part 7 of ERISA among group health plans. As a result of that project, the Department broadened its compliance assistance efforts through a combination of publications, outreach, self-audit materials, and other compliance tools. As a follow-up to the Fiscal Year 2001 Compliance Project, the Department proposed to conduct a second project, the HDCI 2 Survey, which was intended to measure changes in compliance with Part 7 of ERISA and to improve the effectiveness of future compliance assistance efforts. As part of the HDCI 2 Survey, the Department proposed to conduct a narrow scope telephone survey for the sole purpose of identifying an appropriate sample of ERISA-covered single-employer group health plans in two categories: (1) Plans sponsored by firms with 3-99 employees, and (2) plans sponsored by firms with 100 or more employees. OMB approved the HDCI 2 Survey on April 27, 2007, under OMB Control Number 1210-0129, which currently is scheduled to expire on April 30, 2010.

II. Current Actions

This notice requests comments on an extension of OMB's approval of the information collections included in the HDCI 2 Survey. The Department is not proposing or implementing changes to the existing ICR at this time. A summary of the ICR and the current burden estimates follows:

Type of Review: Extension of a currently approved collection of information.

Agency: Employee Benefits Security Administration.

Title: HDCI 2 Survey of Group Health Plans.

OMB Number: 1210-0129.

Affected Public: Business or other for-profit; not-for-profit organizations.

Total Respondents: 5,000.

Total Responses: 5,000.

Frequency: Once.

Average Time per Response: 5 minutes.

Estimated Total Annual Hour Burden: 417 hours.

Estimated Total Annual Cost Burden: $0.

III. Desired Focus of Comments

The Department is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who respond, including through the use of appropriate automated, electronic, mechanical, or other technological collection techniques or other forms of information technology, e.g., by permitting electronic submission of responses.

Comments submitted in response to this notice will be summarized and/or included in the ICR submitted for OMB approval. They will also become a matter of public record.

Dated: December 24, 2009.
Joseph A. Piacentini,
Director, Office of Policy and Research, Employee Benefits Security Administration.

[FR Doc. E9-30998 Filed 12-30-09; 8:45 am]

BILLING CODE 4510-29-P